DEPARTMENT OF ENERGY

Federal Energy Regulatory Commission

[Project No. 13642-001]

GB Energy Park LLC; Notice of Scoping Meetings, Environmental Site Review, and Soliciting Scoping Comments

a. Type of Filing: Notice of Intent to File License Application and Pre-Application Document for an Original Major License.

b. Project No.: 13642-001.

c. Date filed: April 29, 2013.

d. Applicant: GB Energy Park LLC.

e. Name of Project: Gordon Butte Pumped Storage Project.

f. Location: Near Cottonwood Creek in Meagher County near the town of Martinsdale, Montana. The project would not occupy any federal lands.

g. Filed Pursuant to: Federal Power Act, 16 U.S.C. 791(a)-825(r).

h. Applicant Contact: Carl Borgquist, President, Absaroka Energy LLC, 209 South Willson Avenue, P.O. Box 309, Bozeman, MT 59771-0309; (406) 570-4254; carl@absarokaenergy.com.

i. FERC Contact: Mike Tust, michael.tust@ferc.gov, (202) 502-6522.

j. Cooperating agencies: Federal, state, local, and tribal agencies with jurisdiction and/or special expertise with respect to environmental issues that wish to cooperate in the preparation of the environmental document should follow the instructions for filing such requests described in item k below. Cooperating agencies should note the Commission's policy that agencies that cooperate in the preparation of the environmental document cannot also intervene. See 94 FERC ¶ 61,076 (2001).

k. Deadline for filing scoping comments: July 25, 2014.

The Commission strongly encourages electronic filing. Please file scoping comments using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include the docket number P-13642-001.

l. A copy of the Pre-Application Document is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

You may also register online at http://www.ferc.gov/docs-filing/esubscription.asp to be notified via email of new filings and issuances related to this or other pending projects. For assistance, contact FERC Online Support.

m. Scoping Process

The Commission intends to prepare an Environmental Assessment (EA) on the project in accordance with the National Environmental Policy Act. The EA will consider both site-specific and cumulative environmental impacts and reasonable alternatives to the proposed action.

Scoping Meetings

FERC staff will conduct one agency scoping meeting and one public meeting. The agency scoping meeting will focus on resource agency and non-governmental organization concerns, while the public scoping meeting is primarily for public input. All interested individuals, organizations, and agencies are invited to attend one or both of the meetings, and to assist the staff in identifying the scope of the environmental issues that should be analyzed in the EA. The times and locations of these meetings are as follows:

Daytime Scoping Meeting

Date: Wednesday, June 25, 2014.

Time: 9:00 a.m. (MDT).

Place: Red Lion Colonial Hotel.

Address: 2301 Colonial Drive, Helena, Montana.

Evening Scoping Meeting

Date: Wednesday, June 25, 2014.

Time: 6:00 p.m. (MDT).

Place: Martinsdale Community Center.

Address: 110 Main Street, Martinsdale, Montana.

Copies of the Scoping Document (SD1) outlining the subject areas to be addressed in the EA were distributed to the parties on the Commission's mailing list. Copies of the SD1 will be available at the scoping meeting or may be viewed on the web at http://www.ferc.gov using the “eLibrary” link (see item l above).

Environmental Site Review

The Applicant and FERC staff will conduct a project Environmental Site Review beginning at 2:00 p.m. (MDT) on Wednesday, June 25, 2014. All interested individuals, organizations, and agencies are invited to attend. All participants should meet at the Martinsdale Community Center, 110 Main Street, Martinsdale, Montana. All participants are responsible for their own transportation to the site. The Environmental Site Review will include a trip up to the top of the butte where the proposed upper reservoir would be located. This area also provides a view of the drop down to the site of the proposed lower reservoir. Anyone with questions about the Environmental Site Review should contact Mr. Carl Borgquist of Absaroka Energy LLC at (406) 570-4254.

Objectives

At the scoping meetings, staff will: (1) Summarize the environmental issues tentatively identified for analysis in the EA; (2) solicit from the meeting participants all available information, especially quantifiable data, on the resources at issue; (3) encourage statements from experts and the public on issues that should be analyzed in the EA, including viewpoints in opposition to, or in support of, staff's preliminary views; (4) determine the resource issues to be addressed in the EA; and (5) identify those issues that require a detailed analysis, as well as those issues that do not require a detailed analysis.

Procedures

The meetings will be recorded by a stenographer and become part of the formal record of the Commission proceeding on the project.

Individuals, organizations, and agencies with environmental expertise and concerns are encouraged to attend the meeting and to assist the staff in defining and clarifying the issues to be addressed in the EA.

Dated: May 21, 2014.
Kimberly D. Bose,
Secretary.

[FR Doc. 2014-12368 Filed 5-28-14; 8:45 am]

BILLING CODE 6717-01-P